DEPARTMENT OF ENERGY

Blue Ribbon Commission on America's Nuclear Future

AGENCY: Department of Energy, Office of Nuclear Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES: Wednesday, January 26, 2011, 1 p.m.-5 p.m. MST;Thursday, January 27, 2011, 8:30 a.m.-3:15 p.m. MST.

ADDRESSES: Pecos River Village Conference Center,711 Muscatel Avenue,Carlsbad, New Mexico 88220,(575) 887-6516.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Commission is scheduled to submit a draft report to the Secretary of Energy by July 2011, and a final report by January 2012.

Purpose of the Meeting: The meeting will provide the Commission with a range of local and regional perspectives from a wide variety of individuals and organizations. The Commission will also tour the Waste Isolation Pilot Plant to see first-hand the disposal of defense related transuranic waste.

Tentative Agenda: The site tour is expected to start at 1 p.m. on January 26th with the Commissioners touring relevant areas of the Waste Isolation Pilot Plant. The meeting on January 27th will begin at 8:30 a.m. at the Pecos Village River Conference Center. The Commission will hear presentations and statements from various stakeholder groups, and ask questions of the presenters, to provide additional information for Commission consideration. The meeting on January 27th is expected to conclude with public statements starting at approximately 2:15 p.m. MST. The meeting will end by 3:15 p.m. MST.

Public Participation: A tour of the Waste Isolation Pilot Plant surface and underground facilities is being offered to the general public on a first come, first served basis. Registration for the public tour will open at 8 a.m. MST, on Tuesday, January 18, 2011, and close at 5 p.m. MST, on Thursday, January 20, 2011. Individuals interested in the public tour may register by calling (575) 234-7512. A limited number of seats are available.

Individuals and representatives of organizations who would like to offer comments and suggestions may do so at the end of the meeting on January 27, 2011. Approximately one hour will be reserved for public comments. Time allotted per speaker will depend on the number who wish to speak but will not exceed 5 minutes. The Designated Federal Officer is empowered to conduct the meeting in a fashion that will facilitate the orderly conduct of business. Those wishing to speak should register to do so beginning at 8 a.m. MST, on January 27, 2011, at the Pecos River Conference Center. Registration to speak will close at 12 p.m. MST, January 27, 2011.

Those not able to attend the meeting or having insufficient time to address the committee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live webcast. The link will be available at http://www.brc.gov.

Minutes: The minutes of the meeting will be available at http://www.brc.gov or by contacting Mr. Frazier. He may be reached at the postal address or e-mail address above.

Issued in Washington, DC, on January 5, 2011.
LaTanya R. Butler,
Acting Deputy Committee Management Officer.

[FR Doc. 2011-349 Filed 1-10-11; 8:45 am]

BILLING CODE 6450-01-P